FEDERAL COMMUNICATIONS COMMISSION

47 CFR Part 73

[DA No. 00-1155, MM Docket No. 00-93, RM-9881]

Radio Broadcasting Services; Lynn Haven, FL

AGENCY: Federal Communications Commission.

ACTION: Proposed rule.

SUMMARY: This document requests comments on a petition for rule making filed on behalf of Beacon House Communications, requesting the allotment of Channel 282A at Lynn Haven, Florida, as the community's first local FM broadcast service. The coordinates for Channel 282A at Lynn Haven are 30-11-20 NL and 85-42-20 WL. There is a site restriction 8.3 kilometers (5.2 miles) southwest of the community.

DATES: Comments must be filed on or before July 17, 2000, and reply comments on or before August 1, 2000.

ADDRESSES: Federal Communications Commission, Washington, D.C. 20554. In addition to filing comments with the FCC, interested parties should serve the petitioner's counsel, as follows: Cary S. Tepper, Booth, Freret, Imlay & Tepper, P.C., 5101 Wisconsin Avenue, N.W., Suite 307, Washington, DC. 20016-4120.

FOR FURTHER INFORMATION CONTACT: Kathleen Scheuerle, Mass Media Bureau, (202) 418-2180.

SUPPLEMENTARY INFORMATION: This is a summary of the Commission's Notice of Proposed Rule Making, MM Docket No. 00-93, adopted May 17, 2000 and released May 26, 2000. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

Federal Communications Commission.
John A. Karousos,
Chief, Allocations Branch, Policy and Rules Division, Mass Media Bureau.

[FR Doc. 00-14376 Filed 6-7-00; 8:45 am]

BILLING CODE 6712-01-P